DEPARTMENT OF LABOR

Employment and Training Administration

[TA-W-64,675]

Procter and Gamble Hair Care, LLC; a Subsidiary of Procter and Gamble, Including On-Site Leased Workers From Staff Management, Seaton Corp., and Horizon Staffing, Stamford, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 29, 2008, applicable to workers of Procter and Gamble Hair Care, LLC, a subsidiary of Procter and Gamble, Stamford, Connecticut. The notice will be published soon in the Federal Register.

At the request of the State agency, the Department reviewed the certification for workers of the subject firm. The workers are engaged in the production of hair colorants.

The review finds that the Department inadvertently omitted from the certification the workers leased from Staff Management, Seaton Corp., and Horizon Staffing that were working on-site at the subject firm.

Accordingly, the Department is amending the certification to include workers leased from Staff Management, Seaton Corp., and Horizon Staffing working on-site at the Stamford, Connecticut location of the subject firm.

The amended notice applicable to TA-W-64,675 is hereby issued as follows:

All workers of Procter and Gamble Hair Care, LLC, a subsidiary of Procter and Gamble, including on-site leased workers from Staff Management, Seaton Corp., and Horizon Staffing, Stamford, Connecticut, who became totally or partially separated from employment on or after December 12, 2007 through December 29, 2010, are eligible to apply for adjustment assistance under Section 223 of the Trade Act of 1974, and are also eligible to apply for alternative trade adjustment assistance under Section 246 of the Trade Act of 1974.

Signed at Washington, DC, this 15th day of January 2009.
Linda G. Poole,
Certifying Officer, Division of Trade Adjustment Assistance.

[FR Doc. E9-2141 Filed 1-30-09; 8:45 am]

BILLING CODE 4510-FN-P